DEPARTMENT OF ENERGY

Environmental Management Site-Specific Advisory Board, Savannah River Site

AGENCY: Office of Environmental Management, Department of Energy.

ACTION: Notice of open virtual meeting.

SUMMARY: This notice announces an online virtual meeting of the Environmental Management Site-Specific Advisory Board (EM SSAB), Savannah River Site. The Federal Advisory Committee Act requires that public notice of this online virtual meeting be announced in the Federal Register.

DATES: Monday, January 25, 2021; 1:00 p.m.-3:30 p.m.

ADDRESSES: Online Virtual Meeting. To attend, please send an email to: srscitizensadvisoryboard@gmail.com by no later than 4:00 p.m. ET on Friday, January 22, 2021.

To Submit Public Comments: Public comments will be accepted via email prior to and after the meeting. Comments received by no later than 4:00 p.m. ET on Friday, January 22, 2021 will be read aloud during the virtual meeting. Comments will also be accepted after the meeting, by no later than 4:00 p.m. ET on Monday, February 1, 2021. Please submit comments to srscitizensadvisoryboard@gmail.com.

FOR FURTHER INFORMATION CONTACT: Amy Boyette, Office of External Affairs, U.S. Department of Energy, Savannah River Operations Office, P.O. Box A, Aiken, SC 29802; Phone: (803) 952-6120; email: amy.boyette@srs.gov.

SUPPLEMENTARY INFORMATION: Purpose of the Board: The purpose of the Board is to make recommendations to DOE-EM and site management in the areas of environmental restoration, waste management, and related activities.

Tentative Agenda

—Meeting Rules and Agenda Review

—Opening and Chair Update

—Agency Updates

—Break

—Committee Round Robin:

• Facilities Disposition & Site Remediation Committee

• Nuclear Materials Committee

• Strategic & Legacy Management Committee

• Waste Management Committee

• Administrative & Outreach Committee

—Board Discussion of EM SSAB Charges

—Reading of Public Comments

—Voting

• EM SSAB Charge Document #1

• EM SSAB Charge Document #2

• 2021 Committee Chairs

—Adjourn

Public Participation: The online virtual meeting is open to the public. Written statements may be filed with the Board either before or after the meeting as there will not be opportunities for live public comment during this online virtual meeting. The Deputy Designated Federal Officer is empowered to conduct the meeting in a fashion that will facilitate the orderly conduct of business. Individuals wishing to submit public comments should email them as directed above.

Minutes: Minutes will be available by writing or calling Amy Boyette at the address or telephone number listed above. Minutes will also be available at the following website: https://cab.srs.gov/srs-cab.html.

Signed in Washington, DC, on January 4, 2021.
LaTanya Butler,
Deputy Committee Management Officer.

[FR Doc. 2021-00029 Filed 1-6-21; 8:45 am]

BILLING CODE 6450-01-P